DEPARTMENT OF ENERGY

Orders Granting Authority To Import and Export Natural Gas, To Import and Export Liquefied Natural Gas, and Vacating Prior Authorization During April 2017

| FE Docket Nos.
DOWNEAST LNG, INC | 14-172-LNG 14-173-LNG
GOLDEN PASS PRODUCTS LLC | 12-156-LNG
NOBLE AMERICAS GAS & POWER CORP | 17-36-NG
MIECO INC | 17-33-NG
STATOIL NATURAL GAS LLC | 17-34-LNG
TRANS-PECOS PIPELINE, LLC | 17-40-NG
ENCANA MARKETING (USA) INC | 17-41-NG
WORLD FUEL SERVICES, INC | 17-46-NG
EL PASO MARKETING COMPANY, L.L.C | 17-44-NG
OKRA ENERGY, LLC | 16-188-LNG
COMANCHE TRAIL PIPELINE, LLC | 17-39-NG
BP WEST COAST PRODUCTS LLC | 17-42-NG
GAZ METRO SOLUTIONS TRANSPORT LP | 17-35-LNG
PACIFICORP | 17-32-NG
GIGO TRANSPORT, INC | 17-37-NG 15-105-NG
OMIMEX CANADA, LTD | 17-45-NG
ENGIE ENERGY MARKETING NA, INC | 17-38-NG 16-161-NG

AGENCY: Office of Fossil Energy, Department of Energy.

ACTION: Notice of orders.

SUMMARY: The Office of Fossil Energy (FE) of the Department of Energy gives notice that during April 2017, it issued orders granting authority to import and export natural gas, to import and export liquefied natural gas (LNG), and vacating authority. These orders are summarized in the attached appendix and may be found on the FE Web site at http://energy.gov/fe/listing-doefe-authorizationsorders-issued-2017.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on June 20, 2017.
John A. Anderson,
Director, Office of Regulation and International Engagement, Office of Oil and Natural Gas.

APPENDIX

DOE/FE Orders Granting Import/Export Authorizations
3600-A | 04/21/17 | 14-172-LNG 14-173-LNG | Downeast LNG, Inc | Order 3600-A granting request to vacate Long-term, Multi-contract authority to export LNG by vessel to Free trade Agreement Nations and to withdraw Application to export LNG by vessel to Non-free Trade Agreement Nations.
3978 | 04/25/17 | 12-156-LNG | Golden Pass Products LLC | Opinion and Order 3978 granting Long-term, Multi-contract authority to export LNG by vessel from the Golden Pass LNG Terminal located in Jefferson County, Texas, to Non-free Trade Agreement Nations.
4012 | 04/17/17 | 17-36-NG | Noble Americas Gas & Power Corp | Order 4012 granting blanket authority to import/export natural gas from/to Canada/Mexico.
4013 | 04/17/17 | 17-33-NG | Mieco Inc | Order 4013 granting blanket authority to import/export natural gas from/to Canada.
4014 | 04/17/17 | 17-34-LNG | Statoil Natural Gas LLC | Order 4014 granting blanket authority to import LNG from international sources by vessel.
4015 | 04/17/17 | 17-40-NG | Trans-Pecos Pipeline, LLC | Order 4015 granting blanket authority to import/export natural gas from/to Mexico.
4016 | 04/17/17 | 17-41-NG | Encana Marketing (USA) Inc | Order 4016 granting blanket authority to import/export natural gas from/to Canada/Mexico.
4017 | 04/17/17 | 17-46-NG | World Fuel Services, Inc | Order 4017 granting blanket authority to import/export natural gas from/to Canada/Mexico.
4018 | 04/17/17 | 17-44-NG | El Paso Marketing Company, L.L.C | Order 4018 granting blanket authority to import/export natural gas from/to Canada/Mexico.
4019 | 04/18/17 | 16-188-LNG | Okra Energy, LLC | Order 4019 granting blanket authority to export LNG in ISO Containers loaded at a Proposed LNG Plant In Southern Alabama and exported by barge or vessel to Free Trade Agreement Countries in the Caribbean and Latin America.
4020 | 04/17/17 | 17-39-NG | Comanche Trail Pipeline, LLC | Order 4020 granting blanket authority to import/export natural gas from/to Mexico.
4021 | 04/17/17 | 17-42-NG | BP West Coast Products LLC | Order 4021 granting blanket authority to import/export natural gas from/to Canada.
4022 | 04/18/17 | 17-35-LNG | Gaz Metro Solutions Transport LP | Order 4022 granting blanket authority to import LNG from Canada by Truck.
4023 | 04/18/17 | 17-32-NG | PacifiCorp | Order 4023 granting blanket authority to import/export natural gas from/to Canada.
4024 | 04/18/17 | 17-37-NG 15-105-NG | GIGO Transport, Inc | Order 4024 granting blanket authority to import/export natural gas from/to Canada/Mexico and to export natural gas to Mexico, and vacating prior authorization.
4025 | 04/20/17 | 17-45-NG | Omimex Canada, Ltd | Order 4025 granting blanket authority to import/export natural gas from/to Canada/Mexico, and to import LNG from various international sources by vessel.
4026 | 04/20/17 | 17-38-NG 16-161-NG | ENGIE Energy Marketing NA, Inc | Order 4026 granting blanket authority to export natural gas to Mexico, vacating prior authorization, and name change.

[FR Doc. 2017-13233 Filed 6-23-17; 8:45 am]

BILLING CODE 6450-01-P